DEPARTMENT OF HOMELAND SECURITY

Coast Guard

33 CFR Part 117

[Docket No. USCG-2007-0070]

RIN 1625-AA09

Drawbridge Operation Regulation; Bonfouca Bayou, Slidell, LA

AGENCY: Coast Guard, DHS.

ACTION: Final rule.

SUMMARY: The Coast Guard is changing the regulation governing the operation of the State Route 433 (S433) Bridge across Bonfouca Bayou, mile 7.0, at Slidell, St. Tammany Parish, Louisiana and cancelling the test deviation presently in effect for this bridge. This change is being made in order to reduce the hours that the bridge must be manned during the period between 6 p.m. and 6 a.m., making more efficient use of operating resources.

DATES: This rule is effective April 10, 2008. The test deviation, USCG-2007-0068, published on November 9, 2007, old docket number CGD08-07-034, (72 FR 63486) is cancelled as of April 10, 2008.

ADDRESSES: Comments and related materials received from the public, as well as documents indicated in this preamble as being available in the docket, are part of docket USCG-2007-0070, previously published under docket number CGD08-07-033. The docket is available at http://www.regulations.gov. This material is also available for inspection of copying at two locations: The Docket Management Facility (M-30), U.S. Department of Transportation, West Building Ground Floor, Room W12-140, 1200 New Jersey Avenue, SE., Washington, DC 20590, between 9 a.m. and 5 p.m., Monday through Friday, except Federal holidays and the Office of the Commander, Eighth Coast Guard District, Bridge Administration Branch, 500 Poydras Street, Room 1313, New Orleans, LA 70130-3310 between 7 a.m. and 3 p.m., Monday through Friday, except Federal holidays.

FOR FURTHER INFORMATION CONTACT: Phil Johnson, Bridge Administration Branch, telephone (504) 671-2128. If you have questions on viewing or submitting material to the docket, call Renee V. Wright, Program Manager, Docket Operations, telephone 202-366-9826.

SUPPLEMENTARY INFORMATION:

Regulatory Information

On November 9, 2007, we published a notice of proposed rulemaking (NPRM) entitled “Drawbridge Operation Regulations; Bonfouca Bayou, Slidell, LA” in the Federal Register (72 FR 63530) under docket number CGD08-07-033. No public meeting was requested, and none was held.

Concurrent with the publication of the Notice of Proposed Rulemaking concerning this schedule of operation, a Test Deviation was published on November 9, 2007, entitled “Drawbridge Operation Regulations; Bonfouca Bayou, Slidell, LA” in the Federal Register, (72 FR 63486) under docket number USCG 2007-0068, previously docket number CDG08-07-034. This test deviation was issued to allow the Louisiana Department of Transportation and Development to test the proposed schedule and to obtain data and public comments. This deviation is being cancelled upon this final rule going into effect because there have been no comments or complaints, and the new operating schedule will be permanent upon cancellation. This deviation from the operating regulations was authorized under 33 CFR 117.35.

Background and Purpose

The Louisiana Department of Transportation and Development requested that the operating regulation on the S433 Bridge be changed in order to reduce the hours that the bridge must be manned during the period between 6 p.m. and 6 a.m., making more efficient use of operating resources. Currently 33 CFR 117.433 reads: The draw of the S433 Bridge, mile 7.0, at Slidell shall operate as follows:

(a) The draw need not open for passage of vessels from 7 a.m. to 8 a.m. and from 1:45 p.m. to 2:45 p.m., Monday through Friday except Federal holidays.

(b) The draw need open only on the hour and half-hour from 6 a.m. to 7 a.m. and from 3 p.m. to 6 p.m., Monday through Friday except Federal holidays.

(c) The draw shall open on signal from 9 p.m. to 5 a.m., if at least four hours notice is given to the Louisiana Department of Transportation and Development Security Service at (504) 375-0100.

(d) At all other times the draw shall open on signal.

In order to reduce the hours that the bridge must be manned during the period between 6 p.m. and 6 a.m., making more efficient use of operating resources, the owner of the bridge has requested that the operating regulation be changed to read as follows: The draw of the S433 Bridge, mile 7.0 at Slidell, shall open on signal, except that from 6 p.m. to 6 a.m., the draw shall open on signal if at least two hours notice is given. On Monday through Friday, except Federal holidays, the draw need not open for the passage of vessels from 7 a.m. to 8 a.m. and from 1:45 p.m. to 2:45 p.m.

The rule will also delete the incorrect area code and the telephone number provided in paragraph (c) of the regulation, which is not necessary since the telephone number is required to be posted on the bridge.

The S433 Bridge located on Bonfouca Bayou at mile 7.0 in Slidell, St. Tammany Parish, Louisiana has a vertical clearance of 8.2 feet above mean high water, elevation 3.2 feet Mean Sea Level(MSL) in the closed position and unlimited clearance in the open position. Traffic counts indicate that the majority of vehicular traffic crosses the bridge between 7 a.m. and 8 a.m. and between 1:45 p.m. and 2:45 p.m., rush hours for commuters and school buses. The Louisiana Department of Transportation and Development believes that the proposed operating regulation will accommodate most vehicular traffic, and that the needs of navigation will also be met, while making the best use of available personnel to operate the bridge. Most of the vessels that request openings are commercial vessels consisting of small tugboats with one or two barges, shrimp trawlers and large recreational powerboats and sailboats that routinely transit this waterway and are able to give advance notice.

Discussion of Comments and Changes

The Coast Guard received no comments in response to the NPRM or the test deviation.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. The current and historical waterway traffic is very minimal with an average of 2.5 signals to open a day. Most signals come from commercial vessels and recreational craft that are able to schedule an opening in advance.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule will affect a limited number of small entities. These entities include operators of tug boats and trawlers using the waterway. This rule will not significantly impact these small entities because they are able to give notice prior to transiting through this bridge and most vessel operators that require an opening are currently providing advance notice. Lastly, no comments or complaints were received concerning this new operating schedule.

Assistance for Small Entities

Under section 213(a) of the Small Business Regulatory Enforcement Fairness Act of 1996 (Pub. L. 104-121), we offered to assist small entities in understanding the rule so that they could better evaluate its effects on them and participate in the rulemaking process. The Coast Guard provided contact information, so that small entities could ask questions concerning this rule. No small entities contacted the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for Federalism under Executive Order 13132, Federalism, if it has a substantial direct effect on State or local governments and would either preempt State law or impose a substantial direct cost of compliance on them. We have analyzed this rule under that Order and have determined that it does not have implications for Federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have concluded that there are no factors in this case that would limit the use of a categorical exclusion under section 2.B.2 of the Instruction because this rule involves drawbridge regulations. Therefore, this rule is categorically excluded, under figure 2-1, paragraph (32)(e) of the Instruction, from further environmental documentation.

List of Subjects in 33 CFR Part 117

Bridges.

Words of Issuance and Regulatory Text

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. § 117.433 is revised to read as follows:

§ 117.433 Bonfouca Bayou.

The draw of the S433 Bridge, mile 7.0, at Slidell, shall open on signal, except that from 6 p.m. to 6 a.m., the draw shall open on signal if at least two hours notice is given. On Monday through Friday, except Federal holidays, the draw need not open for the passage of vessels from 7 a.m. to 8 a.m. and from 1:45 p.m. to 2:45 p.m.

Dated: February 27, 2008.
Joel R. Whitehead,
Rear Admiral, U.S. Coast Guard, Commander, Eighth Coast Guard District.

[FR Doc. E8-4815 Filed 3-10-08; 8:45 am]

BILLING CODE 4910-15-P